COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List that were furnished by nonprofit agencies employing persons who are blind or have other severe disabilities.

DATES: Date deleted from the Procurement List: June 14, 2020.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Deletions

On 4/10/2020, the Committee for Purchase From People Who Are Blind or Severely Disabled published notice of proposed deletions from the Procurement List. This notice is published pursuant to 41 U.S.C. 8503 (a)(2) and 41 CFR 51-2.3.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

6515-00-NIB-0508—Gloves, Surgical, Powder-free, Latex, Triumph Natural, White, Size 5.5″

6515-00-NIB-0509—Gloves, Surgical, Powder-free, Latex, Triumph Natural, White, Size 6″

6515-00-NIB-0510—Gloves, Surgical, Powder-free, Latex, Triumph Natural, White, Size 6.5″

6515-00-NIB-0511—Gloves, Surgical, Powder-free, Latex, Triumph Natural, White, Size 7″

6515-00-NIB-0512—Gloves, Surgical, Powder-free, Latex, Triumph Natural, White, Size 7.5″

6515-00-NIB-0513—Gloves, Surgical, Powder-free, Latex, Triumph Natural, White, Size 8″

6515-00-NIB-0514—Gloves, Surgical, Powder-free, Latex, Triumph Natural, White, Size 8.5″

6515-00-NIB-0515—Gloves, Surgical, Powder-free, Latex, Triumph Natural, White, Size 9″

6515-00-NIB-0516—Gloves, Surgical, Powder-free, Latex, Triumph Green with Aloe, Green, Size 5.5″

6515-00-NIB-0517—Gloves, Surgical, Powder-free, Latex, Triumph Green with Aloe, Green, Size 6″

6515-00-NIB-0518—Gloves, Surgical, Powder-free, Latex, Triumph Green with Aloe, Green, Size 6.5″

6515-00-NIB-0519—Gloves, Surgical, Powder-free, Latex, Triumph Green with Aloe, Green, Size 7″

6515-00-NIB-0520—Gloves, Surgical, Powder-free, Latex, Triumph Green with Aloe, Green, Size 7.5″

6515-00-NIB-0521—Gloves, Surgical, Powder-free, Latex, Triumph Green with Aloe, Green, Size 8″

6515-00-NIB-0522—Gloves, Surgical, Powder-free, Latex, Triumph Green with Aloe, Green, Size 8.5″

6515-00-NIB-0523—Gloves, Surgical, Powder-free, Latex, Triumph Green with Aloe, Green, Size 9″

6515-00-NIB-0524—Gloves, Surgical, Powder-free, Latex, Triumph Ortho with Aloe, Brown, Size 6″

6515-00-NIB-0525—Gloves, Surgical, Powder-free, Latex, Triumph Ortho with Aloe, Brown, Size 6.5″

6515-00-NIB-0526—Gloves, Surgical, Powder-free, Latex, Triumph Ortho with Aloe, Brown, Size 7″

6515-00-NIB-0527—Gloves, Surgical, Powder-free, Latex, Triumph Ortho with Aloe, Brown, Size 7.5″

6515-00-NIB-0528—Gloves, Surgical, Powder-free, Latex, Triumph Ortho with Aloe, Brown, Size 8″

6515-00-NIB-0529—Gloves, Surgical, Powder-free, Latex, Triumph Ortho with Aloe, Brown, Size 8.5″

6515-00-NIB-0530—Gloves, Surgical, Powder-free, Latex, Triumph Ortho with Aloe, Brown, Size 9″

6515-00-NIB-0749—Gloves, Surgical, Powder-free, Latex, Triumph LT, White, Size 5.5″

6515-00-NIB-0750—Gloves, Surgical, Powder-free, Latex, Triumph LT, White, Size 6″

6515-00-NIB-0751—Gloves, Surgical, Powder-free, Latex, Triumph LT, White, Size 6.5″

6515-00-NIB-0752—Gloves, Surgical, Powder-free, Latex, Triumph LT, White, Size 7″

6515-00-NIB-0753—Gloves, Surgical, Powder-free, Latex, Triumph LT, White, Size 7.5″

6515-00-NIB-0754—Gloves, Surgical, Powder-free, Latex, Triumph LT, White, Size 8″

6515-00-NIB-0755—Gloves, Surgical, Powder-free, Latex, Triumph LT, White, Size 8.5″

6515-00-NIB-0756—Gloves, Surgical, Powder-free, Latex, Triumph LT, White, Size 9″

6515-00-NIB-0757—Gloves, Surgical, Powder-free, Latex, Eudermic, Brown, Size 5.5″

6515-00-NIB-0758—Gloves, Surgical, Powder-free, Latex, Eudermic, Brown, Size 6″

6515-00-NIB-0759—Gloves, Surgical, Powder-free, Latex, Eudermic, Brown, Size 6.5″

6515-00-NIB-0760—Gloves, Surgical, Powder-free, Latex, Eudermic, Brown, Size 7″

6515-00-NIB-0761—Gloves, Surgical, Powder-free, Latex, Eudermic, Brown, Size 7.5″

6515-00-NIB-0762—Gloves, Surgical, Powder-free, Latex, Eudermic, Brown, Size 8″

6515-00-NIB-0763—Gloves, Surgical, Powder-free, Latex, Eudermic, Brown, Size 8.5″

6515-00-NIB-0764—Gloves, Surgical, Powder-free, Latex, Eudermic, Brown, Size 9″

6515-00-NIB-8108—Gloves, Surgical, Powder-free, Latex, Triumph Classic, White, Size 5.5″

6515-00-NIB-8109—Gloves, Surgical, Powder-free, Latex, Triumph Classic, White, Size 6″

6515-00-NIB-8110—Gloves, Surgical, Powder-free, Latex, Triumph Classic, White, Size 6.5″

6515-00-NIB-8111—Gloves, Surgical, Powder-free, Latex, Triumph Classic, White, Size 8.5″

6515-00-NIB-8112—Gloves, Surgical, Powder-free, Latex, Triumph Classic, White, Size 9″

6515-00-NIB-8121—Gloves, Surgical, Powder-free, Latex-Free, Sensicare LT Custom Fit with Aloe, White, Size 7″

6515-00-NIB-8122—Gloves, Surgical, Powder-free, Latex-Free, Sensicare LT Custom Fit with Aloe, White, Size 7.5″

6515-00-NIB-8123—Gloves, Surgical, Powder-free, Latex-Free, Sensicare LT Custom Fit with Aloe, White, Size 8″

6515-00-NIB-8124—Gloves, Surgical, Powder-free, Latex-Free, Sensicare LT Custom Fit with Aloe, White, Size 8.5″

6515-00-NIB-8149—Gloves, Surgical, Powder-free, Latex, Triumph Classic, White, Size 7″

6515-00-NIB-8150—Gloves, Surgical, Powder-free, Latex, Triumph Classic, White, Size 7.5″

6515-00-NIB-8151—Gloves, Surgical, Powder-free, Latex, Triumph Classic, White, Size 8″

6515-00-NIB-8152—Gloves, Surgical, Powder-free, Latex, Radion-X, Khaki, Size 6.5″

6515-00-NIB-8153—Gloves, Surgical, Powder-free, Latex, Radion-X, Khaki, Size 7″

6515-00-NIB-8154—Gloves, Surgical, Powder-free, Latex, Radion-X, Khaki, Size 7.5″

6515-00-NIB-8155—Gloves, Surgical, Powder-free, Latex, Radion-X, Khaki, Size 8″

6515-00-NIB-8156—Gloves, Surgical, Powder-free, Latex, Radion-X, Khaki, Size 8.5″

6515-00-NIB-8157—Gloves, Surgical, Powder-free, Latex, Radion-X, Khaki, Size 9″

Mandatory Source of Supply: BOSMA Enterprises, Indianapolis, IN

Contracting Activity: Strategic Acquisition Center, Fredericksburg, VA

NSN(s)—Product Name(s):

7510-01-600-7621—Wall Calendar, Dated 2019, Wire Bound w/Hanger, 12″ x 17″

Mandatory Source of Supply: Chicago Lighthouse Industries, Chicago, IL

Contracting Activity: GSA/FAS Admin Svcs Acquisition BR(2, New York, NY

NSN(s)—Product Name(s):

8340-00-485-3012—Tarpaulin, Flyer's Emergency

Mandatory Source of Supply: L.E. Phillips Career Development Center, Inc., Eau Claire, WI

Contracting Activity: DLA Troop Support, Philadelphia, PA

NSN(s)—Product Name(s):

6230-00-NSH-0011—Flashlight, Magnet Type, Krypton Bulb

6230-01-465-7180—Flashlight, Krypton Bulb

Mandatory Source of Supply: Development Workshop, Inc., Idaho Falls, ID

Contracting Activity: Strategic Acquisition Center, Fredericksburg, VA

Services

Service Type: Custodial Services

Mandatory for: U.S. Geological Survey—Warehouse: Huffman Business Park, Building P, Anchorage, AK

Mandatory for: U.S. Geological Survey—Warehouse: 800 Ship Creek Avenue (USGS Storage Area), Anchorage, AK

Mandatory Source of Supply: Assets, Inc., Anchorage, AK

Contracting Activity: Office of Policy, Management, and Budget, NBC Acquisition Services Division

Michael R. Jurkowski,
Deputy Director, Business & PL Operations.

[FR Doc. 2020-10439 Filed 5-14-20; 8:45 am]

BILLING CODE 6353-01-P